DEPARTMENT OF COMMERCE

Foreign-Trade Zones Board

[Docket 25-2010]

Foreign-Trade Zone 144—Brunswick, GA; Application for Expansion and Reorganization Under Alternative Site Framework

An application has been submitted to the Foreign-Trade Zones (FTZ) Board (the Board) by the Brunswick and Glynn County Development Authority, grantee of FTZ 144, requesting authority to expand the zone and reorganize under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the provisions of the Foreign-Trade Zones Act, as amended (19 U.S.C. 81a-81u), and the regulations of the Board (15 CFR part 400). It was formally filed on April 1, 2010.

FTZ 144 was approved by the Board on August 6, 1987 (Board Order 361, 52 FR 30699, 08/17/87) and reorganized on March 13, 2007 (Board Order 1505, 72 FR 13080, 03/20/07).

The current zone project includes the following sites: Site 1 (95 acres within 687-acre park)—Tradewinds Industrial Park at I-95 between exits 38 and 41, Brunswick; Site 2 (61 acres)—Georgia Ports Authority Terminal, located east and west of Joe Frank Boulevard, Brunswick; Site 3 (17 acres)—MAP International Distribution Center, 4700 Glynco Parkway, Brunswick. Site 3 was approved on a temporary basis pursuant to the minor boundary modification provision of the FTZ regulations (15 CFR 400.27(f)), effective for a period ending March 31, 2012.

The grantee's proposed service area under the ASF would be Appling, Atkinson, Brantley, Camden, Charlton, Coffee, Glynn, Jeff Davis, McIntosh, Ware and Wayne Counties, as described in the application. If approved, the grantee would be able to serve sites throughout the service area based on companies' needs for FTZ designation. The proposed service area is within and adjacent to the Brunswick Customs and Border Protection port of entry.

The applicant is requesting authority to reorganize and expand its existing zone project to include Sites 1 and 2 as “magnet” sites and to add additional acreage to Sites 1 and 2. The applicant is requesting authority to include the entire 687-acre Tradewinds Industrial Park within Site 1 and to expand Site 2 to include a total of 2,016 acres owned by the Georgia Ports Authority Terminal, Mercedes-Benz USA, and International Auto Processing. The ASF allows for the possible exemption of one magnet site from the “sunset” time limits that generally apply to sites under the ASF, and the applicant proposes that Site 1 be so exempted. The applicant is also requesting to include Site 3 as a “usage-driven” site. Because the ASF only pertains to establishing or reorganizing a general-purpose zone, the application would have no impact on FTZ 144's authorized subzone.

In accordance with the Board's regulations, Kathleen Boyce of the FTZ staff is designated examiner to evaluate and analyze the facts and information presented in the application and case record and to report findings and recommendations to the Board.

Public comment is invited from interested parties. Submissions (original and 3 copies) shall be addressed to the Board's Executive Secretary at the address listed below. The closing period for their receipt is June 7, 2010. Rebuttal comments in response to material submitted during the foregoing period may be submitted during the subsequent 15-day period June 22, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via www.trade.gov/ftz. For further information, contact Kathleen Boyce at Kathleen.Boyce@trade.gov or (202) 482-1346.

Dated: April 1, 2010.
Andrew McGilvray,
Executive Secretary.

[FR Doc. 2010-8054 Filed 4-7-10; 8:45 am]

BILLING CODE P